DEPARTMENT OF LABOR

Pension and Welfare Benefits Administration

Proposed Extension of Information Collection Request Submitted for Public Comment and Recommendations; Prohibited Transaction Exemption T88-1

ACTION: Notice.

SUMMARY: The Department of Labor, as part of its continuing effort to reduce paperwork and respondent burden, conducts a preclearance consultation program to provide the general public and Federal agencies with an opportunity to comment on proposed and continuing collections of information in accordance with the Paperwork Reduction Act of 1995 (PRA 95) 44 U.S.C. 3506(c)(2)(A). This program helps to ensure that requested data can be provided in the desired format, reporting burden (time and financial resources) is minimized, collection instruments are clearly understood, and the impact of collection requirements on respondents can be properly assessed.

Currently, the Pension and Welfare Benefits Administration is soliciting comments concerning the proposed extension of a currently approved collection of information, Prohibited Transaction Exemption (PTE) T88-1. A copy of the proposed information collection request (ICR) can be obtained by contacting the office listed in the addresses section of this notice.

DATES: Written comments must be submitted on or before August 27, 2001.

ADDRESSES: Gerald B. Lindrew, Department of Labor, Pension and Welfare Benefits Administration, 200 Constitution Avenue, NW., Washington, DC 20210, (202) 219-4782, FAX (202) 219-4745. These are not toll-free numbers.

SUPPLEMENTARY INFORMATION:

I. Background

PTE T88-1 adopts, for purposes of the prohibited transaction provisions of section 8477(c)(2) of the Federal Employees' Retirement System Act of 1986 (FERSA), certain prohibited transaction class exemptions (the Class Exemptions) granted pursuant to section 408(a) of the Employee Income Security Act of 1974. The adoption of these Class Exemptions permits fiduciaries with respect to the FERS Thrift Savings Fund (the Fund) to engage in certain transactions that would otherwise be prohibited under section 8477(c) of FERSA.

II. Desired Focus of Comments

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify the information to be collected; and

• Minimize the burden of the collection of information on those who are to respond, including through use of appropriate automated, electronic, mechanical, or other technological collection techniques or other forms of information technology, e.g., permitting electronic submissions of responses.

III. Current Action

The adoption of the Class Exemptions under this regulation permits fiduciaries with respect to the Fund to engage in certain transactions that would otherwise be prohibited under section 8477(c) of FERSA. The recordkeeping requirements incorporated within the Class Exemptions are intended to insure that a Class Exemption is not abused, that the rights of plan participants and beneficiaries are protected, and that the affected fiduciaries comply with the Class Exemptions' conditions.

Type of Review: Extension of currently approved collection of information.

Agency: Pension and Welfare Benefits Administration.

Title: Prohibited Transaction Exemption T88-1.

OMB Number: 1210-0074.

Affected Public: Business or other for-profit; not-for-profit institutions; individuals.

Total Respondents: 1.

Frequency: On occasion.

Total Responses: 1.

Average Time Per Response: 1 hour.

Estimated Total Burden Hours: 1 hour.

Comments submitted in response to this notice will be summarized and/or included in the request for Office of Management and Budget approval of the information collection request; they will also become a matter of public record.

Dated: June 21, 2001.
Gerald B. Lindrew,
Deputy Director, Office of Policy and Research, Pension and Welfare Benefits Administration.

[FR Doc. 01-16081 Filed 6-26-01; 8:45 am]

BILLING CODE 4510-29-M